NUCLEAR REGULATORY COMMISSION

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from March 13, 2008 to March 26, 2008. The last biweekly notice was published on March 25, 2008 (73 FR 15780).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area 01F21, 11555 Rockville Pike (first floor), Rockville, Maryland. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville, Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

AmerGen Energy Company, LLC, et al., Docket No. 50-219, Oyster Creek Nuclear Generating Station (Oyster Creek), Ocean County, New Jersey

Date of amendment request: November 13, 2007.

Description of amendment request: The proposed amendment would delete the Oyster Creek Technical Specification (TS) 6.5, “Review and Audit.” Specifically, the proposed change would delete TS 6.5.1, “Technical Review and Control,” TS 6.5.2, “Independent Safety Review Function,” and TS 6.5.3, “Audits” which are currently being implemented by the Exelon/AmerGen Quality Assurance Topical Report. Additionally, the proposed amendment would correct typographical errors in Table 3.1.1, “Protective Instrumentation Requirements” and Table 4.1.1, “Minimum Check, Calibration and Test Frequency for Protective Instrumentation” and would delete the Condenser Vacuum Pump Isolation Surveillance from Table 4.1.2, “Minimum Test Frequencies for Trip Systems.” The TS required operability associated with the Surveillance Requirement (SR) was removed from the Oyster Creek TSs via Amendment No. 169 and removal of the SR was inadvertently omitted. This request for approval of a license amendment was submitted concurrently with a similar request for Three Mile Island Nuclear Station, Unit No. 1 (TMI). Due to some differences in the requested changes, the TMI amendment request will be noticed separately.

Basis for proposed no significant hazards consideration determination: As required by 10 CFR 50.91(a), the licensee has provided its analysis of the issue of no significant hazards consideration, which is presented below:

1. Does the proposed amendment involve a significant increase in the probability or consequences of an accident previously evaluated?

Response: No.

No physical changes to the facilities, OCNGS [Oyster Creek] and TMI, will occur as a result of this proposed amendment. The proposed changes will not alter the physical design or operational procedures associated with any plant structure, system, or component.

The proposed changes involve the deletion of several administrative requirements from the Technical Specifications (TS) that are now controlled under the Exelon/AmerGen Quality Assurance Topical Report (QATR) and several administrative procedures, AS-AA-102, [Station Qualified Review Program], HU-AA-1212 (Independent Third Party Reviews), LS-AA-101 (License/TS changes), LS-AA-106 (PORC), NO-AA-200-002 (Audits) and SY-AA-101-104 (Security Plan changes), and are, therefore, administrative in nature. The TS requirements involve Technical Review and Control and Audits. In accordance with the guidance provided in NRC Administrative Letter 95-06, “Relocation of Technical Specification Administrative Controls related to Quality Assurance,” the proposed changes are an acceptable method for removing technical specification quality assurance requirements.

The Independent Safety Review Function is being deleted because it is a redundant independent safety review to the existing independent review process being performed under the AmerGen/Exelon PORC.

The remaining proposed changes are administrative in nature and have no affect on plant operation. The changes do not reduce the duties and responsibilities of the organizations performing the technical review, independent safety review and audit functions essential to ensuring the safe operation of the plant.

Therefore, the proposed changes do not involve a significant increase in the probability or consequences of an accident previously evaluated.

2. Does the proposed amendment create the possibility of a new or different kind of accident from any accident previously evaluated?

Response: No.

The proposed changes are administrative in nature. The proposed changes do not alter the physical design, safety limits, or safety analysis assumptions associated with the operation of the plant. Accordingly, the changes do not introduce any new accident initiators, nor do they reduce or adversely affect the capabilities of any plant structure, system, or component to perform their safety function.

Therefore, the proposed changes do not create the possibility of a new or different kind of accident from any accident previously evaluated.

3. Does the proposed amendment involve a significant reduction in a margin of safety?

Response: No.

The proposed changes conform to NRC regulatory guidance regarding the content of plant Technical Specifications. The guidance is presented in Administrative Letter 95-06, NUREG-1430[, “Standard Technical Specifications—Babcock and Wilcox Plants,”] and NUREG-1433[, “Standard Technical Specifications—General Electric Plants, BWR/4.”] The relocation of these administrative requirements and the deletion of a redundant independent safety review function will not reduce the [effectiveness of the] quality assurance commitments as accepted by the [Nuclear Regulatory Commission (NRC)], nor reduce administrative controls essential to the safe operation of the plant. Future changes to these administrative requirements will be performed in accordance with NRC regulation 10 CFR 50.54(a), consistent with the guidance identified above. Accordingly, the replacement of TS requirements by existing QATR requirements results in an [acceptable] level of regulatory control.

Therefore, the proposed changes do not involve a significant reduction in any margin of safety.

The NRC staff has reviewed the licensee's analysis and, based on this review, and with the changes noted above, it appears that the three standards of 10 CFR 50.92(c) are satisfied. Therefore, the NRC staff proposes to determine that the amendment request involves no significant hazards consideration.

Attorney for licensee: Thomas S. O'Neill, Associate General Counsel, Exelon Generation Company, LLC, 4300 Winfield Road, Warrenville, IL 60555.

NRC Branch Chief: Richard B. Ennis (Acting).

AmerGen Energy Company, LLC, et al., Docket No. 50-289, Three Mile Island Nuclear Station, Unit 1 (TMI), Dauphin County, Pennsylvania

Date of amendment request: November 13, 2007.

Description of amendment request: The proposed amendment would delete the TMI Technical Specification (TS) 6.5, “Review and Audit.” Specifically, the proposed change would delete TS 6.5.1, “Technical Review and Control,” TS 6.5.2, “Independent Safety Review Function,” and TS 6.5.3, “Audits” which are currently being implemented by the Exelon/AmerGen Quality Assurance Topical Report. Additionally, the proposed amendment would correct typographical errors in the TMI Facility Operating License, the TS Table of Contents, and Figure 5-3 while providing more legible versions of Figure 3.1-2a, Figure 3.5-1, Figure 3.5-2, and Figure 3.5-3. Further, the proposed amendment would update the description of the installed spent fuel pool storage locations. This request for approval of a license amendment was submitted concurrently with a similar request for the Oyster Creek Nuclear Generating Station (Oyster Creek). Due to some differences in the requested changes, the Oyster Creek amendment request will be noticed separately.

Basis for proposed no significant hazards consideration determination: As required by 10 CFR 50.91(a), the licensee has provided its analysis of the issue of no significant hazards consideration, which is presented below:

1. Does the proposed amendment involve a significant increase in the probability or consequences of an accident previously evaluated?

Response: No.

No physical changes to the facilities, OCNGS [Oyster Creek] and TMI, will occur as a result of this proposed amendment. The proposed changes will not alter the physical design or operational procedures associated with any plant structure, system, or component.

The proposed changes involve the deletion of several administrative requirements from the Technical Specifications (TS) that are now controlled under the Exelon/AmerGen Quality Assurance Topical Report (QATR) and several administrative procedures, AS-AA-102, [Station Qualified Review Program], HU-AA-1212 (Independent Third Party Reviews), LS-AA-101 (License/TS changes), LS-AA-106 (PORC), NO-AA-200-002 (Audits) and SY-AA-101-104 (Security Plan changes), and are, therefore, administrative in nature. The TS requirements involve Technical Review and Control and Audits. In accordance with the guidance provided in NRC Administrative Letter 95-06, “Relocation of Technical Specification Administrative Controls related to Quality Assurance,” the proposed changes are an acceptable method for removing technical specification quality assurance requirements.

The Independent Safety Review Function is being deleted because it is a redundant independent safety review to the existing independent review process being performed under the AmerGen/Exelon PORC.

The remaining proposed changes are administrative in nature and have no affect on plant operation. The changes do not reduce the duties and responsibilities of the organizations performing the technical review, independent safety review and audit functions essential to ensuring the safe operation of the plant.

Therefore, the proposed changes do not involve a significant increase in the probability or consequences of an accident previously evaluated.

2. Does the proposed amendment create the possibility of a new or different kind of accident from any accident previously evaluated?

Response: No.

The proposed changes are administrative in nature. The proposed changes do not alter the physical design, safety limits, or safety analysis assumptions associated with the operation of the plant. Accordingly, the changes do not introduce any new accident initiators, nor do they reduce or adversely affect the capabilities of any plant structure, system, or component to perform their safety function.

Therefore, the proposed changes do not create the possibility of a new or different kind of accident from any accident previously evaluated.

3. Does the proposed amendment involve a significant reduction in a margin of safety?

Response: No.

The proposed changes conform to NRC regulatory guidance regarding the content of plant Technical Specifications. The guidance is presented in Administrative Letter 95-06, NUREG-1430[, “Standard Technical Specifications—Babcock and Wilcox Plants,”] and NUREG-1433[, “Standard Technical Specifications—General Electric Plants, BWR/4.”] The relocation of these administrative requirements and the deletion of a redundant independent safety review function will not reduce the [effectiveness of the] quality assurance commitments as accepted by the [Nuclear Regulatory Commission (NRC)], nor reduce administrative controls essential to the safe operation of the plant. Future changes to these administrative requirements will be performed in accordance with NRC regulation 10 CFR 50.54(a), consistent with the guidance identified above. Accordingly, the replacement of TS requirements by existing QATR requirements results in an [acceptable] level of regulatory control.

Therefore, the proposed changes do not involve a significant reduction in any margin of safety.

The NRC staff has reviewed the licensee's analysis and, based on this review, and with the changes noted above, it appears that the three standards of 10 CFR 50.92(c) are satisfied. Therefore, the NRC staff proposes to determine that the amendment request involves no significant hazards consideration.

Attorney for licensee: Mr. Bradley Fewell, Associate General Counsel, Exelon Generation Company, LLC, 4300 Winfield Road, Warrenville, IL 60555.

NRC Branch Chief: Richard B. Ennis (Acting).

Entergy Nuclear Operations, Inc., Docket No. 50-286, Indian Point Nuclear Generating Unit No. 3 (IP3), Westchester County, New York

Date of amendment request: February 28, 2008.

Description of amendment request: The proposed amendment would revise Technical Specification (TS) requirements related to the containment buffering agent used for pH control under post loss-of-coolant accident (LOCA) conditions. Specifically, the proposal would approve the use of sodium tetraborate (STB) as the buffering agent instead of the currently approved compound, sodium hydroxide (NaOH). The reason for this change in buffering agents is to minimize the potential for an adverse chemical interaction between the NaOH and certain insulation materials in the containment that could degrade flow through the sump screens following certain design-basis accident scenarios such as a LOCA.

Basis for proposed no significant hazards consideration determination: As required by 10 CFR 50.91(a), the licensee has provided its analysis of the issue of no significant hazards consideration, which is presented below:

1. Does the proposed change involve a significant increase in the probability or consequences of an accident previously evaluated?

Response: No.

The proposed amendment does not involve a significant increase in the probability of an accident previously evaluated because the containment buffering agent is not an initiator of any analyzed accident. The proposed change does not impact any failure modes that could lead to an accident.

The proposed amendment does not involve a significant increase in the consequences of an accident previously evaluated. The buffering agent in containment is designed to buffer the acids expected to be produced after a LOCA and is credited in the radiological analysis for iodine retention. Utilizing STB as a buffering agent ensures the post-LOCA containment sump mixture will have a pH ≥ 7.0. The proposed change of replacing sodium hydroxide with STB results in the radiological consequences remaining within the limits of 10 CFR 50.67. There is no dose change with the pH above 7.0.

Therefore, operation of the facility in accordance with the proposed amendment would not involve a significant increase in the probability or consequences of an accident previously evaluated.

2. Does the proposed change create the possibility of a new or different kind of accident from any accident previously evaluated?

Response: No.

The proposed amendment does not create the possibility of a new or different kind of accident from any accident previously evaluated. STB is a passive component that is proposed to be used at IP3 as a buffering agent to increase the pH of the initially acidic post-LOCA containment water to a more neutral pH. Changing the proposed buffering agent from sodium hydroxide to STB does not constitute an accident initiator or create a new or different kind of accident previously analyzed. The operation of the Containment Spray System remains the same with the isolation of the sodium hydroxide to the eductors because the flow path of the spray remains constant through the eductors. The proposed amendment does not involve operation of any required systems, structures or components in a manner or configuration different from those previously recognized or evaluated. No new failure mechanisms will be introduced by the changes being requested.

Therefore, the proposed amendment does not create the possibility of a new or different kind of accident from any accident previously evaluated.

3. Does the proposed change involve a significant reduction in a margin of safety?

Response: No.

The proposed amendment does not involve a significant reduction in a margin of safety. The proposed amendment of changing the buffering agent from sodium hydroxide to STB results in equivalent control of maintaining sump pH at 7.0 or greater, thereby controlling containment atmosphere iodine and ensuring the radiological consequences of a LOCA are within regulatory limits. The change of buffering agent from NaOH to STB also reduces the amount of sodium aluminum silicate precipitate thereby reducing the overall amount of precipitate that may be formed in a postulated LOCA. The buffer change would minimize the potential chemical effects and should enhance the ability of the emergency core cooling system to perform the post-accident mitigating functions.

Therefore, the proposed amendment does not involve a significant reduction in [a] margin of safety.

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 440 Hamilton Avenue, White Plains, NY 10601.

NRC Branch Chief: Mark G. Kowal.

Nine Mile Point Nuclear Station, LLC, (NMPNS) Docket No. 50-220, Nine Mile Point Nuclear Station Unit No. 1 (NMP1), Oswego County, New York

Date of amendment request: February 25, 2008.

Description of amendment request: The proposed amendment would revise NMP1 Technical Specification (TS) 3/4.4.4, “Emergency Ventilation System,” to remove the operability and surveillance requirements for the 10,000 watt heater located in the common supply inlet air duct for the Reactor Building Emergency Ventilation System (RBEVS). The proposed amendment would also revise TS 3/4.4.5, “Control Room Air Treatment System,” to reduce the 10-hour duration monthly system operational surveillance test requirement to a 15-minute run surveillance test requirement.

Basis for proposed no significant hazards consideration determination: As required by 10 CFR 50.91(a), the licensee has provided its analysis of the issue of no significant hazards consideration, which is presented below:

1. Does the proposed amendment involve a significant increase in the probability or consequences of an accident previously evaluated?

Response: No.

The RBEVS and the CRAT [Control Room Air Treatment] System do not involve any initiators or precursors to an accident previously evaluated as the systems perform a mitigative function in response to an accident. Failure of the systems would result in the inability to perform their mitigative function but would not increase the probability of an accident previously evaluated. The RBEVS is designed to limit the release of radioactive gases to the environment such that resulting doses will be less than the guideline values of 10 CFR 50.67, “Accident Source Term.” The CRAT System is designed to minimize the amount of radioactivity or other gases from entering the control room in the event of an accident. Both the RBEVS and the CRAT System charcoal filter materials are tested in accordance with American Society for Testing and Materials (ASTM) D3803-1989, “Standard Test Method for Nuclear-Grade Activated Carbon” at a test temperature of 30° C [degrees Celsius] (86°F [degrees Fahrenheit]) while maintaining a relative humidity (RH) value of 95%. The testing method assures the ability of the charcoal filters to perform their intended function with or without the humidity control function provided by the 10 kW [kilowatt] heater. The filter efficiency values required by the TS test criteria provide a safety factor of 2, consistent with the recommendations of GL [Generic Letter] 99-02.

The previous NMP1 adoption of the more stringent ASTM D3803-1989 charcoal testing parameters resulted in the elimination for humidity control of inlet air in both the RBEVS and the CRAT system. Therefore, the need for a 10 hour duration monthly system operational surveillance test is no longer necessary to demonstrate reliability and proper function of the systems.

Therefore, these proposed changes do not alter the results of the accident dose consequence analyses and do not involve a significant increase in probability or consequences of an accident previously evaluated.

2. Does the proposed amendment create the possibility of a new or different kind of accident from any accident previously evaluated?

Response: No.

The proposed amendment of removing the RBEVS 10 kW common supply air inlet heater requirements and reducing the duration of the monthly system operational surveillance requirements from 10 hours to 15 minutes for both the RBEVS and the CRAT System will not involve placing the system in a new configuration or operating the system in a different manner that could result in a new or different kind of accident. Testing of the charcoal filter materials in accordance with ASTM D3803-1989 standard at a test temperature of 30° C (86° F) while maintaining a relative humidity 95% will continue to assure the ability of the system's charcoal filters to perform its intended function under potential higher inlet air RH values.

The previous NMP1 adoption of the more stringent ASTM D3803-1989 charcoal testing parameters resulted in the elimination of the need for humidity control of inlet air in both the RBEVS and the CRAT system. Therefore, a 10 hour duration monthly system operational surveillance test is no longer necessary to demonstrate reliability and proper function of the systems.

Therefore, the proposed changes do not create the possibility of a new or different kind of accident from any [accident] previously evaluated.

3. Does the proposed amendment involve a significant reduction in a margin of safety?

Response: No.

The proposed amendment will not adversely affect the performance characteristics of either the RBEVS or the CRAT System, and will not affect the ability of either system to perform its intended function.

Testing of the charcoal filter materials in accordance with ASTM D3803-1989 and the test parameters required by the TS assures the ability of the charcoal filters to perform their intended function with or without the humidity control. The filter efficiency values required by the TS test criteria provide a safety factor of 2, consistent with the recommendations of GL 99-02.

The previous NMP1 adoption of the more stringent ASTM D3803-1989 charcoal testing parameters resulted in the elimination of the need for humidity control of inlet air in both the RBEVS and the CRAT system. Therefore, a 10 hour duration monthly system operational surveillance test is no longer necessary to demonstrate reliability and proper function of the systems.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mark J. Wetterhahn, Esquire, Winston & Strawn, 1700 K Street, NW., Washington, DC 20006.

NRC Branch Chief: Mark G. Kowal.

R.E. Ginna Nuclear Power Plant, LLC, Docket No. 50-244, R.E. Ginna Nuclear Power Plant, Wayne County, New York

Date of amendment request: February 8, 2008.

Description of amendment request: The proposed amendment would revise Technical Specification 5.6.6, “Reactor Coolant System (RCS) Pressure and Temperature Limits Report (PTLR),” to update the method used to develop the RCS heatup and cooldown and Low Temperature Over Pressure (LTOP) limits utilizing current NRC approved methodology.

Basis for proposed no significant hazards consideration determination: As required by 10 CFR 50.91(a), the licensee has provided its analysis of the issue of no significant hazards consideration, which is presented below:

1. Does the proposed change involve a significant increase in the probability or consequences of an accident previously evaluated?

Response: No.

Integrity of the reactor vessel is integral to plant safety. It provides containment and continuity for the reactor core, and as part of the reactor coolant system acts as one of the three fission product barriers to the environment. The purpose of the heatup and cooldown limit curves and LTOP setpoints is to ensure vessel integrity through the spectrum of operating modes. Operating within those limits ensures that brittle failure of the vessel material does not occur due to the thermal and pressure stresses the vessel is subjected to during operation. During power operation, the effects of neutron radiation tend to change the characteristics of the vessel material making it more brittle. To compensate for this the operating limits must be periodically adjusted. The methodology being proposed in this submittal is designed to ensure vessel integrity, is analytically sound, and has been reviewed and approved by the NRC. Therefore, the proposed change does not involve a significant increase in the probability or consequences of an accident previously evaluated.

2. Does the proposed change create the possibility of a new or different kind of accident from any accident previously evaluated?

Response: No.

Due to its thickness and material properties, the reactor vessel is the limiting component for brittle fracture in the reactor coolant system. The proposed methodology appropriately limits the operating parameters to preclude the possibility of vessel failure. No new failure mechanisms or accident precursors are introduced as a result of this proposed change. Therefore, this change does not create the possibility of a new or different [kind] of accident from any accident previously evaluated.

3. Does the proposed change involve a significant reduction in a margin of safety?

Response: No.

The proposed methodology in WCAP-14040-A, Methodology Used to Develop Cold Overpressure Mitigating System Setpoints and RCS Heatup and Cooldown Limit Curves, Revision 4, contains appropriate margin and has been reviewed and approved by the NRC. Since the new methodology for developing heatup and cooldown curves will produce less restrictive curves, use of the existing methodology for LTOP setpoints will continue to provide adequate margin to the [Title 10 of the Code of Federal Regulations, Part 50] Appendix G limits. Therefore, this proposed change does not involve a significant reduction in [a] margin of safety.

The NRC staff has reviewed the licensee's analysis and, based on this review, it appears that the three standards of 10 CFR 50.92(c) are satisfied. Therefore, the NRC staff proposes to determine that the amendment request involves no significant hazards consideration.

Attorney for licensee: Carey Fleming, Sr. Counsel—Nuclear Generation, Constellation Generation Group, LLC, 750 East Pratt Street, 17th floor, Baltimore, MD 21202.

NRC Branch Chief: Mark G. Kowal.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Exelon Generation Company, LLC, Docket Nos. STN 50-456 and STN 50-457, Braidwood Station, Units 1 and 2, Will County, Illinois

Date of amendment request: February 25, 2008.

Brief description of amendment request: The proposed amendment would revise Technical Specification (TS) 5.5.9, “Steam Generator (SG) Program,” and TS 5.6.9, “Steam Generator Tube Inspection Report.” For TS 5.5.9, the amendment would replace the existing alternate repair criteria in the provisions for SG tube repair criteria during Braidwood Station (Braidwood), Unit 2, refueling outage 13 and the subsequent operating cycle. For TS 5.6.9, three new reporting requirements are proposed to be added to the existing seven requirements. The proposed changes only affect Braidwood, Unit 2; however, this is docketed for Braidwood, Units 1 and 2, because the TS are common to both units.

Date of publication of individual notice in Federal Register: March 11, 2008.

Expiration date of individual notice: April 11, 2008 (public comment); May 11, 2008 (hearing requests).

FPL Energy Seabrook LLC, Docket No. 50-443, Seabrook Station, Unit No. 1, Rockingham County, New Hampshire

Date of amendment request: March 7, 2008.

Description of amendment request: The proposed amendment would revise Technical Specification (TS) Table 4.3-1, “Reactor Trip System Instrumentation Surveillance Requirements,” to require the initial plateau curves to be measured within 24 hours after attaining 100 percent steady-state power. Currently, initial plateau curves are required to be taken within 24 hours of entry into Mode 2.

Date of publication of individual notice in Federal Register: March 19, 2008 (FR 72 14850).

Expiration date of individual notice: April 18, 2008 (Public comment) and May 19, 2008 (Hearing requests).

Notice of Issuance of Amendments To Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) The applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC web site, http://www.nrc.gov/reading-rm/adams.html. If you do not have access to ADAMS or if there are problems in accessing the documents located in ADAMS, contact the PDR Reference staff at 1 (800) 397-4209, (301) 415-4737 or by e-mail to pdr@nrc.gov.

Calvert Cliffs Nuclear Power Plant, Inc., Docket Nos. 50-317 and 50-318, Calvert Cliffs Nuclear Power Plant, Unit Nos. 1 and 2, Calvert County, Maryland

Date of application for amendments: October 17, 2007, as supplemented by letter dated December 13, 2007.

Brief description of amendments: These amendments modify Technical Specification requirements for inoperable snubbers by adding Limiting Condition for Operation (LCO) 3.0.8. This operating license improvement was made available by the Nuclear Regulatory Commission on May 4, 2005 (70 FR 23252) as part of the consolidated line item improvement process. In addition, the amendments correct an omission to Amendment No. 282 and 259, issued on September 27, 2007, that adopted Technical Specification Task Force Traveler 427 by including a reference to LCO 3.0.9 in LCO 3.0.1.

Date of issuance: March 24, 2008.

Effective date: As of the date of issuance to be implemented within 60 days.

Amendment Nos.: Unit 1—285, Unit 2—262.

Renewed Facility Operating License Nos. DPR-53 and DPR-69: Amendments revised the License and Technical Specifications.

Date of initial notice in Federal Register: November 20, 2007 (72 FR 65362) The letter dated December 13, 2007, provided additional information that clarified the application, did not expand the scope of the application as originally noticed, and did not change the staff's original proposed no significant hazards consideration determination as published in the Federal Register.

The Commission's related evaluation of these amendments is contained in a Safety Evaluation dated March 24, 2008.

No significant hazards consideration comments received: No.

Detroit Edison Company, Docket No. 50-341, Fermi 2, Monroe County, Michigan

Date of application for amendment: March 19, 2007, as supplemented by letter dated August 16, 2007.

Brief description of amendment: The amendment revised the Technical Specification 3.8.1 entitled “AC [Alternating Current] Sources-Operating” to change the minimum Emergency Diesel Generator output voltage acceptance criterion from 3740 to 3873 volts. Specifically, the proposed change revised the Surveillance Requirements 3.8.1.2, 3.8.1.7, 3.8.1.10, 3.8.1.11, 3.8.1.14, and 3.8.1.17.

Date of issuance: March 17, 2008.

Effective date: As of the date of issuance and shall be implemented within 30 days.

Amendment No.: 178.

Facility Operating License No. NPF-43: Amendment revised the Technical Specifications and License.

Date of initial notice in Federal Register: April 24, 2007 (72 FR 20379).

The supplemental letter contained clarifying information and did not change the initial no significant hazards consideration determination, and did not expand the scope of the original Federal Register notice.

The Commission's related evaluation of the amendment is contained in a Safety Evaluation dated March 17, 2008.

No significant hazards consideration comments received: No.

Exelon Generation Company, LLC, Docket Nos. 50-237 and 50-249, Dresden Nuclear Power Station, Units 2 and 3, Grundy County, Illinois, Docket Nos. 50-254 and 50-265, Quad Cities Nuclear Power Station, Units 1 and 2, Rock Island County, Illinois

Date of application for amendments: April 12, 2007.

Brief description of amendments: The amendments revise technical specification requirements related to control room envelope habitability in accordance with Technical Specification Task Force Traveler TSTF-448, Revision 3, “Control Room Habitability.”

Date of issuance: March 20, 2008.

Effective date: As of the date of issuance and shall be implemented within 180 days of the date of issuance.

Amendment Nos.: 226/218 and 238/233.

Renewed Facility Operating License Nos. DPR-19, DPR-25, DPR-29 and DPR-30: The amendments revised the Technical Specifications and License.

Date of initial notice in Federal Register: June 5, 2007 (72 FR 31100) The Commission's related evaluation of the amendments is contained in a Safety Evaluation dated March 20, 2008.

No significant hazards consideration comments received: No.

Exelon Generation Company, LLC, Docket Nos. 50-254 and 50-265, Quad Cities Nuclear Power Station, Units 1 and 2, Rock Island County, Illinois

Date of application for amendments: November 20, 2007.

Brief description of amendments: The amendments revised the values of the safety limit minimum critical power ratio (SLMCPR) in Technical Specification (TS) Section 2.1.1, “Reactor Core SLs.” Specifically, the amendments deleted the Quad Cities Nuclear Power Station (QCNPS), Unit 2 fuel-specific SLMCPR requirements for Global Nuclear Fuel GE14 fuel and consolidated QCNPS SLMCPR requirements into a bounding dual-unit requirement.

Date of issuance: February 28, 2008.

Effective date: As of the date of issuance and shall be implemented prior to startup from the next refueling outage for QCNPS, Unit 2 (Q2R19), which is scheduled to start in March 2008.

Amendment Nos.: 237/232.

Renewed Facility Operating License Nos. DPR-29 and DPR-30: The amendments revised the Technical Specifications and License.

Date of initial notice in Federal Register: December 18, 2007 (72 FR 71712) The Commission's related evaluation of the amendments is contained in a Safety Evaluation dated February 28, 2008.

No significant hazards consideration comments received: No.

FirstEnergy Nuclear Operating Company, et al., Docket No. 50-412, Beaver Valley Power, Station, Unit No. 2, Beaver County, Pennsylvania

Date of application for amendment: February 9, 2007, as supplemented by letters dated August 8, August 23, September 13, 2007, and January 25, 2008.

Brief description of amendment: The amendment will address Generic Safety Issue 191 “Assessment of Debris Accumulation on PWR Sump Performance,” by implementing Technical Specification (TS) changes that reflect the use of a new recirculation spray system pump start signal due to a modification to the containment sump screens and replace the use of LOCTIC with the Modular Accident Analysis Program-Design Basis Accident calculation methodology to calculate containment pressure, temperature, and condensation rates for input to the SWNAUA code, which ultimately changes the aerosol removal coefficients used in dose consequence analysis.

Date of issuance: March 11, 2008.

Effective date: As of the date of issuance, and shall be implemented prior to the first entry into Mode 4 coming out of 2R13, which begins April 2008.

Amendment No: 164.

Facility Operating License No. NPF-73: The amendment revised the License and TS.

Date of initial notice in Federal Register: April 24, 2007 (72 FR 20383). The supplements dated August 8, August 23, September 13, 2007, and January 25, 2008, provided additional information that clarified the application, did not expand the scope of the application as originally noticed, and did not change the staff's original proposed no significant hazards consideration determination as published in the Federal Register.

The Commission's related evaluation of the amendment is contained in a Safety Evaluation dated March 11, 2008.

No significant hazards consideration comments received: No.

FPL Energy Duane Arnold, LLC, Docket No. 50-331, Duane Arnold Energy Center, Linn County, Iowa

Date of application for amendment: September 14, 2007.

Brief description of amendment: This amendment consists of changes to the Technical Specifications in response to your application dated September 14, 2007, which requested revision to TS 3.3.2.1, “Control Rod Block Instrumentation,” Table 3.3.2.1-1, “Control Rod Block Instrumentation,” to modify a footnote such that a new Banked Position Withdrawal Sequence (BPWS) shutdown sequence could be utilized.

Date of issuance: March 20, 2008.

Effective date: As of the date of issuance and shall be implemented within 30 days.

Amendment No.: 268.

Facility Operating License No. DPR-49: The amendment revised the Technical Specifications and Facility Operating License.

Date of initial notice in Federal Register: December 4, 2007 (72 FR 68216).

The Commission's related evaluation of the amendment is contained in a Safety Evaluation dated March 20, 2008.

No significant hazards consideration comments received: No.

Pacific Gas and Electric Company, Docket Nos. 50-275 and 50-323, Diablo Canyon Nuclear Power Plant, Unit Nos. 1 and 2, San Luis Obispo County, California

Date of application for amendments: October 2, 2007, as supplemented by letters dated February 8, and March 11, 2008.

Brief description of amendments: The amendments revised Technical Specification 3.5.4, “Refueling Water Storage Tank (RWST),” and Surveillance Requirement 3.5.4.2, to increase the minimum required borated water volume from “≥ 400,000 gallons (81.5% indicated level)” to “≥ 455,300 gallons.”

Date of issuance: March 26, 2008.

Effective date: As of its date of issuance and shall be implemented prior to Mode 4 entry following refueling outage 2R14.

Amendment Nos.: Unit 1—199; Unit 2—200.

Facility Operating License Nos. DPR-80 and DPR-82: The amendments revised the Facility Operating Licenses and Technical Specifications.

Date of initial notice in Federal Register: December 31, 2007 (72 FR 74361). The supplemental letters dated February 8, and March 11, 2008, provided additional information that clarified the application, did not expand the scope of the application as originally noticed, and did not change the staff's original proposed no significant hazards consideration determination as published in the Federal Register. The Commission's related evaluation of the amendments is contained in a Safety Evaluation dated March 26, 2008.

No significant hazards consideration comments received: No.

R.E. Ginna Nuclear Power Plant, LLC, Docket No. 50-244, R.E. Ginna Nuclear Power Plant, Wayne County, New York

Date of application for amendment: October 17, 2007, as supplemented by letter dated December 13, 2007.

Brief description of amendment: The amendment revises Technical Specifications requirements for inoperable snubbers by adding Limiting Condition for Operation 3.0.8. This operating license improvement was made available by the Nuclear Regulatory Commission on May 4, 2005 (70 FR 23252) as part of the consolidated line item improvement process.

Date of issuance: March 19, 2008.

Effective date: As of the date of issuance to be implemented within 60 days.

Amendment No.: 104.

Renewed Facility Operating License No. DPR-18: Amendment revised the License and Technical Specifications.

Date of initial notice in Federal Register: November 20, 2007 (72 FR 65371) The letter dated December 13, 2007, provided additional information that clarified the application, did not expand the scope of the application as originally noticed, and did not change the staff's original proposed no significant hazards consideration determination as published in the Federal Register.

The Commission's related evaluation of the amendment is contained in a Safety Evaluation dated March 19, 2008.

No significant hazards consideration comments received: No.

Southern California Edison Company, et al., Docket Nos. 50-361 and 50-362, San Onofre Nuclear Generating Station, Units 2 and 3, San Diego County, California

Date of application for amendments: February 8, 2007, as supplemented by letters dated July 24 and November 15, 2007, and February 19, 2008.

Brief description of amendments: The amendments incorporate changes which (1) revised Technical Specifications (TS) Surveillance Requirement (SR) 3.3.7.3.a to lower the allowable value for dropout and raise the allowable value for pickup of the degraded voltage function, and (2) revised TS SR 3.8.1 to lower the diesel generator minimum output voltage due to lower settings for the degraded voltage function.

Date of issuance: March 18, 2008.

Effective date: as of its date of issuance, to be implemented within 60 days of issuance.

Amendment Nos.: Unit 2—216; Unit 3—208.

Facility Operating License Nos. NPF-10 and NPF-15: The amendments revised the Facility Operating Licenses and Technical Specifications.

Date of initial notice in Federal Register: March 27, 2007 (72 FR 14307). The supplemental letters dated July 24 and November 15, 2007, and February 19, 2008, provided additional information that clarified the application, did not expand the scope of the application as originally noticed, and did not change the staff's original proposed no significant hazards consideration determination as published in the Federal Register.

The Commission's related evaluation of the amendments is contained in a Safety Evaluation dated March 18, 2008.

No significant hazards consideration comments received: No.

Southern California Edison Company, et al., Docket Nos. 50-361 and 50-362, San Onofre Nuclear Generating Station, Units 2 and 3, San Diego County, California

Date of application for amendments: March 30, 2007, as supplemented by letters dated November 5, 2007, and January 15 and February 19, 2008.

Brief description of amendments: The amendments revised Technical Specifications Surveillance Requirement 3.3.7.3.b, “Loss of Voltage Function,” to a narrower voltage band and lower operating time for channel calibration testing, by replacing the undervoltage relays with the reset time significantly lower.

Date of issuance: March 25, 2008.

Effective date: As of the date of its issuance and shall be implemented in the next refueling outage or unit outage of sufficient duration, whichever occurs first.

Amendment Nos.: Unit 2—217; Unit 3—209.

Facility Operating License Nos. NPF-10 and NPF-15: The amendments revised the Facility Operating Licenses and Technical Specifications.

Date of initial notice in Federal Register: April 24, 2007 (72 FR 20385). The supplemental letters dated November 5, 2007, and January 15 and February 19, 2008, provided additional information that clarified the application, did not expand the scope of the application as originally noticed, and did not change the staff's original proposed no significant hazards consideration determination as published in the Federal Register. The Commission's related evaluation of the amendments is contained in a Safety Evaluation dated March 25, 2008.

No significant hazards consideration comments received: No.

STP Nuclear Operating Company, Docket Nos. 50-498 and 50-499, South Texas Project, Units 1 and 2, Matagorda County, Texas

Date of amendment request: May 21, 2007, as supplemented by letter dated November 26, 2007.

Brief description of amendments: The amendments revised the Technical Specifications Surveillance Requirement 4.5.2.d for the Emergency Core Cooling System sumps for consistency with the new sump design and configuration.

Date of issuance: March 25, 2008.

Effective date: As of its date of issuance and shall be implemented after completion of the corrective actions and modifications for resolution of Generic Safety Issue 191, “Assessment of Debris Accumulation on PWR Sump Pump Performance.”

Amendment Nos.: Unit 1—183; Unit 2—170.

Facility Operating License Nos. NPF-76 and NPF-80: The amendments revised the Facility Operating Licenses and Technical Specifications.

Date of initial notice in Federal Register: July 31, 2007 (72 FR 41789). The supplemental letter dated November 26, 2007, provided additional information that clarified the application, did not expand the scope of the application as originally noticed, and did not change the staff's original proposed no significant hazards consideration determination as published in the Federal Register. The Commission's related evaluation of the amendments is contained in a Safety Evaluation dated March 25, 2008.

No significant hazards consideration comments received: No.

Wolf Creek Nuclear Operating Corporation, Docket No. 50-482, Wolf Creek Generating Station, Coffey County, Kansas

Date of amendment request: March 14, 2007, as supplemented by letters dated September 12, October 16, and December 14 (two letters), 2007, and January 18, 2008.

Brief description of amendment: The amendment authorizes (1) the replacement of the main steam isolation valves (MSIVs) and main feedwater isolation valves (MFIVs) and (2) the use of Figures B 3.7.2-1 (MSIVs) and 3.7.3-1 (MFIVs) as the limiting closure times for these valves to demonstrate that these valves meet the limiting conditions for operation with respect to the valve closure time. The remaining amendment requests in the application that have not yet been addressed by the NRC are the proposed (1) addition of main feedwater regulating valves and bypass valves to TS 3.7.3, “Main Feedwater Isolation Valves,” and (2) modification of the main steam and feedwater isolation system (MSFIS) controls. These requests will be addressed in future letters to the licensee.

Date of issuance: March 21, 2008.

Effective date: As of its date of issuance and shall be implemented before entry into Mode 3 in the restart from Refueling Outage 16, which is to be conducted in the spring of 2008.

Amendment No.: 176.

Facility Operating License No. NPF-42. The amendment revises the license.

Date of initial notice in Federal Register: June 19, 2007 (72 FR 33785).

The supplemental letters dated September 12, October 16, and December 14 (two letters), 2007, and January 18, 2008, provided additional information that clarified the application, did not expand the scope of the application as originally noticed, and did not change the staff's original proposed no significant hazards consideration determination as published in the Federal Register.

The Commission's related evaluation of the amendment is contained in a Safety Evaluation dated March 21, 2008.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) The application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

The Commission is also offering an opportunity for a hearing with respect to the issuance of the amendment. Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for hearing or a petition for leave to intervene must be filed in accordance with the NRC E-Filing rule, which the NRC promulgated in August 28, 2007 (72 FR 49139). The E-Filing process requires participants to submit and serve documents over the Internet or in some cases to mail copies on electronic storage media. Participants may not submit paper copies of their filings unless they seek a waiver in accordance with the procedures described below.

To comply with the procedural requirements of E-Filing, at least five (5) days prior to the filing deadline, the petitioner/ requestor must contact the Office of the Secretary by e-mail at HEARINGDOCKET@NRC.GOV, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) first-class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

PSEG Nuclear LLC, Docket Nos. 50-272 and 50-311, Salem Nuclear Generating Station, Unit Nos. 1 and 2, Salem County, New Jersey

Date of amendment request: March 5, 2008.

Description of amendment request: The amendments revise the surveillance requirements for Technical Specification (TS) 3/4.9.4, “Containment Building Penetrations.”

Date of issuance: March 13, 2008.

Effective date: As of the date of issuance, to be implemented within 1 day.

Amendment Nos.: 288 and 272.

Facility Operating License Nos. DPR-70 and DPR-75: The amendments revise the TSs and the licenses.

Public comments requested as to proposed no significant hazards consideration (NSHC): Yes. Public notice of the proposed amendments was published in the Today's Sunbeam newspaper, located in Salem, New Jersey on March 11, 2008. The notice provided an opportunity to submit comments on the Commission's proposed NSHC determination. No comments have been received.

The Commission's related evaluation of the amendment, finding of exigent circumstances, state consultation, and final NSHC determination are contained in a safety evaluation dated March 13, 2008.

Attorney for licensee: Jeffrie J. Keenan, Esquire, Nuclear Business Unit—N21, P.O. Box 236, Hancocks Bridge, NJ 08038.

NRC Branch Chief: Harold K. Chernoff.

Dated at Rockville, Maryland, this 28th day of March, 2008.
For the Nuclear Regulatory Commission.
Catherine Haney,
Director, Division of Operating Reactor Licensing, Office of Nuclear Reactor Regulation.

[FR Doc. E8-6904 Filed 4-7-08; 8:45 am]

BILLING CODE 7590-01-P